DEPARTMENT OF TRANSPORTATION

Federal Aviation Administration

14 CFR Part 39

[Docket No. FAA-2023-1051; Project Identifier MCAI-2022-01565-T; Amendment 39-22529; AD 2023-17-03]

RIN 2120-AA64

Airworthiness Directives; Airbus SAS Airplanes

AGENCY: Federal Aviation Administration (FAA), DOT.

ACTION: Final rule.

SUMMARY: The FAA is adopting a new airworthiness directive (AD) for all Airbus SAS Model A330-200 series airplanes, Model A330-200 Freighter series airplanes, Model A330-300 series airplanes, Model A340-200 series airplanes, and Model A340-300 series airplanes. This AD was prompted by a report that certain overheat detection system (OHDS) sensing elements, produced before January 31, 2021, may not properly detect thermal bleed leak events due to a quality escape during the manufacturing process. This AD requires a one-time special detailed inspection (SDI) for discrepancies of each affected part installed at an affected position, and replacement of discrepant parts, as specified in a European Union Aviation Safety Agency (EASA) AD, which is incorporated by reference. This AD would also prohibit the installation of affected parts. The FAA is issuing this AD to address the unsafe condition on these products.

DATES: This AD is effective October 19, 2023.

The Director of the Federal Register approved the incorporation by reference of certain publications listed in this AD as of October 19, 2023.

ADDRESSES:

AD Docket: You may examine the AD docket at regulations.gov under Docket No. FAA-2023-1051; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For EASA material incorporated by reference in this AD, contact EASA, Konrad-Adenauer-Ufer 3, 50668 Cologne, Germany; telephone +49 221 8999 000; email ADs@easa.europa.eu; website easa.europa.eu. You may find this material on the EASA website at ad.easa.europa.eu.

• For Kidde Aerospace & Defense service information incorporated by reference in this AD, contact Kidde Aerospace & Defense, 4200 Airport Drive NW, Building B, Wilson, NC 27896; telephone 319-295-5000; website kiddetechnologies.com/aviation.com.

• You may view this material at the FAA, Airworthiness Products Section, Operational Safety Branch, 2200 South 216th St., Des Moines, WA. For information on the availability of this material at the FAA, call 206-231-3195. It is also available in the AD docket at regulations.gov under Docket No. FAA-2023-1051.

FOR FURTHER INFORMATION CONTACT: Timothy Dowling, Aviation Safety Engineer, FAA, 1600 Stewart Avenue, Suite 410, Westbury, NY 11590; telephone 206-231-3667; email Timothy.P.Dowling@faa.gov.

SUPPLEMENTARY INFORMATION:

Background

The FAA issued a notice of proposed rulemaking (NPRM) to amend 14 CFR part 39 by adding an AD that would apply to all Airbus SAS Model A330-200 ¹ series airplanes, Model A330-200 Freighter series airplanes, Model A330-300 series airplanes, Model A340-200 series airplanes, and Model A340-300 series airplanes. The NPRM published in the Federal Register on May 26, 2023 (88 FR 34097). The NPRM was prompted by AD 2022-0243, dated December 8, 2022, issued by EASA, which is the Technical Agent for the Member States of the European Union (EASA AD 2022-0243) (also referred to as the MCAI). The MCAI states that the affected part manufacturer, Kidde Aerospace & Defense, reported that certain OHDS sensing elements, produced before January 31, 2021, may not properly detect thermal bleed leak events due to a quality escape during the manufacturing process.

¹ In the preamble of the NPRM, the FAA inadvertently referred to model “A320-200” series airplanes. The affected airplane models, however, were correctly described in the Applicability paragraph. The preamble of this final rule has been corrected to reference the correct model, “A330-200” series airplanes.

In the NPRM, the FAA proposed to require a one-time SDI for discrepancies of each affected part installed at an affected position, and replacement of discrepant parts, as specified in EASA AD 2022-0243. The NPRM also proposed to prohibit the installation of affected parts. The FAA is issuing this AD to address an air leak remaining undetected by the OHDS sensing element and not being isolated during flight. The unsafe condition, if not addressed, could possibly result in localized areas of the airplane being exposed to high temperatures, with consequent reduced structural integrity of the airplane.

You may examine the MCAI in the AD docket at regulations.gov under Docket No. FAA-2023-1051.

Discussion of Final Airworthiness Directive

Comments

The FAA received comments from Air Line Pilots Association, International (ALPA), who supported the NPRM without change.

The FAA received additional comments from Airbus SAS. The following presents the comment received on the NPRM and the FAA's response.

Request To Correct the Referenced EASA AD Number

Airbus SAS requested to correct the EASA AD number referenced in paragraph (h)(5) of the proposed AD. The reference to EASA AD 2022-0234 is a mistake as it should refer to EASA AD 2022-0243.

The FAA agrees that EASA AD 2022-0243 is correct for paragraph (h)(5) of this AD. The FAA has changed this AD accordingly.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the NPRM. None of the changes will increase the economic burden on any operator.

Related Service Information Under 1 CFR Part 51

EASA 2022-0243 specifies procedures for a one-time SDI for discrepancies of each affected part installed at an affected position, and replacement of discrepant parts where the displayed electronic centralized aircraft monitoring (ECAM) warning is not related to results of a heat gun test at certain locations. EASA AD 2022-0243 also prohibits the installation of affected parts.

The FAA reviewed Kidde Aerospace & Defense Service Bulletin CFD-26-3, dated January 13, 2022; and Revision 1, dated March 29, 2022, which identify affected OHDS sensing elements (those having certain part numbers and corresponding date codes). These documents are distinct because Revision 1 corrects typographical errors and clarifies wording.

This material is reasonably available because the interested parties have access to it through their normal course of business or by the means identified in the ADDRESSES section.

Costs of Compliance

The FAA estimates that this AD affects 119 airplanes of U.S. registry. The FAA estimates the following costs to comply with this AD:

Estimated Costs for Required Actions
Labor cost | Parts cost | Cost per product | Cost on U.S. operators
Up to 64 work-hours × $85 per hour = $5,440 | $0 | $5,440 | $647,360

The FAA estimates the following costs to do any necessary on-condition actions that would be required based on the results of any required actions. The FAA has no way of determining the number of aircraft that might need these on-condition actions:

Estimated Costs of On-Condition Actions
Labor cost | Parts cost | Cost per product
13 work-hours × $85 per hour = $1,105 | * $ | $1,105
* The FAA has received no definitive data on which to base the parts cost.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2023-17-03 Airbus SAS: Amendment 39-22529; Docket No. FAA-2023-1051; Project Identifier MCAI-2022-01565-T.

(a) Effective Date

This airworthiness directive (AD) is effective October 19, 2023.

(b) Affected ADs

None.

(c) Applicability

This AD applies to all Airbus SAS airplanes specified in paragraphs (c)(1) through (5) of this AD, certificated in any category.

(1) Model A330-201, -202, -203, -223, and -243 airplanes.

(2) Model A330-223F and -243F airplanes.

(3) Model A330-301, -302, -303, -321, -322, -323, -341, -342, and -343 airplanes.

(4) Model A340-211, -212, and -213 airplanes.

(5) Model A340-311, -312, and -313 airplanes.

(d) Subject

Air Transport Association (ATA) of America Code 36, Pneumatic.

(e) Unsafe Condition

This AD was prompted by a report that certain overheat detection system (OHDS) sensing elements, produced before January 31, 2021, may not properly detect the thermal bleed leak events due to a quality escape during the manufacturing process. The FAA is issuing this AD to address an air leak remaining undetected by the OHDS sensing element and not being isolated during flight. The unsafe condition, if not addressed, could possibly result in localized areas of the airplane being exposed to high temperatures, with consequent reduced structural integrity of the airplane.

(f) Compliance

Comply with this AD within the compliance times specified, unless already done.

(g) Requirements

Except as specified in paragraph (h) of this AD: Comply with all required actions and compliance times specified in, and in accordance with, European Union Aviation Safety Agency (EASA) AD 2022-0243, dated December 8, 2022 (EASA AD 2022-0243).

(h) Exceptions to EASA AD 2022-0243

(1) Where EASA AD 2022-0243 refers to its effective date, this AD requires using the effective date of this AD.

(2) This AD does not adopt the “Remarks” section of EASA AD 2022-0243.

(3) Where EASA AD 2022-0243 defines “affected part” and refers to “the VSB” for the part numbers and date codes, for this AD, use Kidde Aerospace & Defense Service Bulletin CFD-26-3, dated January 13, 2022; or Revision 1, dated March 29, 2022, as “the VSB” for the part numbers and date codes.

(4) Where EASA AD 2022-0243 defines Groups, replace the text “the SB” with “Airbus Service Bulletin A330-36-3052, dated June 27, 2022; or Airbus SB A340-36-4036, dated June 27, 2022; as applicable.”

(5) Where paragraph (2) of EASA AD 2022-0243 specifies action if “any discrepancy as defined in the SB is detected,” for this AD a discrepancy is when the displayed electronic centralized aircraft monitoring (ECAM) warning is not related to results of a heat gun test at certain location.

(i) No Reporting Requirement and No Return of Parts

(1) Although the service information referenced in EASA AD 2022-0243 specifies to submit certain information to the manufacturer, this AD does not include that requirement.

(2) Although the service information referenced in EASA AD 2022-0243 specifies to return certain parts to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, International Validation Branch, FAA; or EASA; Airbus SAS's EASA Design Organization Approval (DOA). If approved by the DOA, the approval must include the DOA-authorized signature.

(3) Required for Compliance (RC): Except as required by paragraph (j)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(k) Additional Information

For more information about this AD, contact Timothy Dowling, Aviation Safety Engineer, FAA, 1600 Stewart Avenue, Suite 410, Westbury, NY 11590; telephone 206-231-3667; email Timothy.P.Dowling@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2022-0243, dated December 8, 2022.

(ii) Kidde Aerospace & Defense Service Bulletin CFD-26-3, dated January 13, 2022.

(iii) Kidde Aerospace & Defense Service Bulletin CFD-26-3, Revision 1, dated March 29, 2022.

Note 1 to paragraph (l)(2)(iii): The revision level of this document is identified on only the transmittal page; no other page of the document contains this information.

(3) For EASA AD 2022-0243, contact EASA, Konrad-Adenauer-Ufer 3, 50668 Cologne, Germany; telephone +49 221 8999 000; email ADs@easa.europa.eu; website easa.europa.eu. You may find this EASA AD on the EASA website at ad.easa.europa.eu.

(4) For Kidde Aerospace & Defense service information, contact Kidde Aerospace & Defense, 4200 Airport Drive NW, Building B, Wilson, NC 27896; telephone 319-295-5000; website kiddetechnologies.com/aviation.com.

(5) You may view this material at the FAA, Airworthiness Products Section, Operational Safety Branch, 2200 South 216th St., Des Moines, WA. For information on the availability of this material at the FAA, call 206-231-3195.

(6) You may view this material that is incorporated by reference at the National Archives and Records Administration (NARA). For information on the availability of this material at NARA, email fr.inspection@nara.gov, or go to: www.archives.gov/federal-register/cfr/ibr-locations.html.

Issued on September 7, 2023.
Ross Landes,
Deputy Director for Regulatory Operations, Compliance & Airworthiness Division, Aircraft Certification Service.

[FR Doc. 2023-19898 Filed 9-13-23; 8:45 am]

BILLING CODE 4910-13-P